FEDERAL COMMUNICATIONS COMMISSION

[Report No. AUC-04-37-L (Auction No. 37); DA 04-2123]

Removal of FM Broadcast Construction Permits From Auction No. 37

AGENCY: Federal Communications Commission.

ACTION: Notice.

SUMMARY: This document announces the removal of two vacant allotments from the Auction No. 37 inventory.

DATES: Auction No. 37 is scheduled for November 3, 2004. The Short-Form Application (FCC Form 175) Filing Window Opens July 22, 2004; noon, e.t. and ends August 6, 2004; 6 p.m. e.t.

FOR FURTHER INFORMATION CONTACT: James Bradshaw, Audio Division, Media Bureau at (202) 418-2700.

SUPPLEMENTARY INFORMATION: This is a summary of a Public Notice released July 14, 2004. The complete text of the Public Notice, including a four page attachment providing the revised Auction No. 37 inventory, is available for inspection and copying during normal business hours in the FCC Reference Information Center (Room CY-A257), 445 12th Street, SW., Washington, DC. It may also be purchased from the Commission's duplicating contractor, Best Copy and Printing, Inc. (“BCPI”), Portals II, 445 12th Street, SW., Room CY-B402, Washington, DC, 20554, telephone 202-488-5300, facsimile 202-488-5563, or you may contact BCPI at their Web site: http://www.BCPIWEB.com. This document is also available on the Internet at the Commission's Web site: http://wireless.fcc.gov/auctions/37/.

General Information

The Wireless Telecommunications Bureau and the Media Bureau provide additional information about the FM broadcast construction permits being offered in Auction No. 37. scheduled for November 3, 2004. The Media Bureau has determined that coordination with the Mexican government has not been finalized with respect to: (1) FM 282, Cotulla, Texas, Channel 242A, and (2) FM 284, El Dorado, Texas, Channel 285A. These two vacant FM allotments are being removed from the Auction No. 37 inventory.

Federal Communications Commission.
Lisa Scanlan,
Assistant Division Chief, Audio Division, Media Bureau.

[FR Doc. 04-16889 Filed 7-22-04; 8:45 am]

BILLING CODE 6712-01-P